DEPARTMENT OF THE INTERIOR

Bureau of Indian Affairs

Hualapai Tribe of Arizona Liquor Code Amendment

AGENCY: Bureau of Indian Affairs, Interior.

ACTION: Notice.

SUMMARY: This notice publishes the Hualapai Tribe of Arizona Liquor Code Amendment as set forth by Resolution No. 08-2002. The Liquor Code of the Hualapai Tribe was originally published in the Federal Register of March 14, 1969. This amendment extends tribal regulation of liquor sales to commercial helicopter tours on the Hualapai Reservation in conjunction with tourism and is in conformity with the laws of the State of Arizona, where applicable and necessary. Although the Code Amendment was adopted on February 15, 2002, it does not become effective until published in the Federal Register, because the failure to comply with the Code may result in criminal charges.

DATES: The Code Amendment is effective on July 26, 2002.

FOR FURTHER INFORMATION CONTACT: Kaye Armstrong, Office of Tribal Services, 1849 C Street, NW., MS 4631-MIB, Washington, DC 20240-4001; telephone (202) 208-4400.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country. The Hualapai Reservation Liquor Code Amendment, Resolution No. 08-2002, was duly adopted by the Tribal Council of the Hualapai Tribe on February 15, 2002. The Hualapai Tribe, in furtherance of its economic and social goals, has taken positive steps to regulate retail sales of alcohol and use revenues to combat alcohol abuse and its debilitating effects among individuals and family members within the Hualapai Reservation.

This notice is published in accordance with the authority delegated by the Secretary of the Interior to the Assistant Secretary—Indian Affairs by 209 Departmental Manual 8.1.

I certify that by Resolution 08-2002, the Hualapai Tribe of Arizona Liquor Code Amendment duly adopted by the Hualapai Tribal Council on February 15, 2002.

Dated: July 12, 2002.
Neal A. McCaleb,
Assistant Secretary, Indian Affairs.

The Hualapai Tribe of Arizona Liquor Code Amendment, Resolution No. 08-2002, reads as follows:

Hualapai Tribal Code

Commercial Champagne Flights Ordinance

Sec. 1—Commercial Champagne Flight.

(a) General Provisions.

(1) Title. This section shall be known as the Hualapai Tribe Commercial Champagne Flight Ordinance.

(2) Authority. This section is enacted pursuant to the Act of August 15, 1953 (Public Law 83-277, 67 Stat. 588, 18 U.S.C. 1161), as interpreted by the United States Supreme Court in Rice v. Rehner, 463 U.S. 713 (1983), and Article V of the Hualapai Tribe Constitution.

(3) Purpose. The purpose of this section is to allow for, regulate, and control the limited possession, transportation, sale, and consumption of champagne or similar sparkling wine beverages in conjunction with commercial helicopter tours on the Hualapai Reservation. Enactment of this section will increase the ability of the Community government to regulate Reservation alcohol possession and consumption, and at the same time provide an important source of revenue for the continued operation and strengthening of the Community and the delivery of Community government services.

(4) Scope and Territory. This section applies to all sales, purchases, distributions, possession, and consumption of alcoholic beverages made in conjunction with any tribally authorized commercial helicopter tour conducted within the exterior boundaries of the Hualapai reservation.

(5) Application of 18 U.S.C. Section 1161. All acts and transactions under this section shall be in conformity with this section and in conformity with the laws of the State of Arizona, as that term is used in Title 18 of the United States Code, Section 1161.

(6) Effective date. This section shall take effect on the date it is approved by the Secretary of the Interior or the Secretary's designate.

(b) Definitions.

In this section, unless the context otherwise requires, the meaning of terms used have the following meaning:

Alcohol and Alcoholic Beverage. Beer, wine or any other spirituous liquor.

Champagne and Similar Sparkling Wine Beverage. Any alcoholic sparkling wine beverage with an alcohol content not to exceed fourteen percent (14%).

Community. The Hualapai Tribe.

Customer. One who patronizes a commercial champagne tour.

Person. A natural person or a corporation duly chartered by a jurisdiction within the United States.

Reservation. All Indian lands under the control and authority of the Hualapai Tribe.

Sell, Sold, Buy. Furnish, dispose of, give, receive or acquire.

Tribal Official. A tribal police officer, an officer or Director of the Grand Canyon Resort Corporation, or a member of the Tribal Council.

Tribe or Hualapai Tribe. The Hualapai Indian Tribe of the Hualapai Indian Reservation, a federally recognized Indian tribe. Unless specifically provided for in subsection (e) below, this section does not invalidate or alter the limitations on the use, sale, purchase, possession, or consumption of alcohol set forth in Sections 6.21(A), 6.34, 6.34(A), 6.58 or elsewhere in the Hualapai Tribal Code.

(c) Unlawful Acts. Unless specifically provided for in subsection (e) below, this section does not invalidate or alter the limitations on the use, sale, purchase, possession, or consumption of alcohol set forth in Sections 6.21(A), 6.34, 6.34(A), 6.58 or elsewhere in the Hualapai Tribal Code.

(d) Limited Use of Alcohol for Commercial Champagne Helicopter Tours. Notwithstanding limitations on the use, sale, purchase, possession, or consumption of alcohol set forth elsewhere in the Hualapai Tribal Code, the limited use of alcohol for commercial champagne helicopters is allowed, consistent with the following provisions:

(1) A helicopter vendor may transport up to two bottles, not to exceed 36 ounces each, of champagne or similar sparkling wine beverages for purposes of providing or selling such beverages to customers in conjunction with tribally authorized commercial champagne helicopter tours. All other alcoholic beverages are specifically excluded from the helicopter champagne tour and are otherwise banned from the application of this section. Passengers on commercial champagne helicopter tours may consume such beverages outside of the helicopter and within the regular sightseeing areas located near the vendor's helipad landing sites at the base of the Grand Canyon.

(2) A helicopter operator, vendor employee, or vendor contractor who becomes aware of an individual violation of this section must instruct the violator to immediately desist from his or her unauthorized use of alcohol. Such a helicopter operator, vendor employee, or vendor contractor shall immediately, or as soon thereafter as is practicable, notify a Tribal Official of the violation and shall provide the name, address and other identifying information of the violator. Failure of a helicopter operator, vendor employee, or vendor contractor to perform the requirements of this subsection is a violation of this section.

(3) At no time may a helicopter vendor provide, nor may customers consume more than one bottle of champagne or similar sparkling wine per couple.

(4) At no time may a helicopter operator, vendor employee, or vendor contractor consume any alcoholic beverages during such periods such person is or persons are working in conjunction with a commercial champagne helicopter tour.

(5) The transportation and consumption of alcohol pursuant to this section must at all times be consistent with all Federal Aviation Administration requirements.

(e) Removal of Alcoholic Beverages. All alcoholic beverages and containers must be removed from the Hualapai Reservation by the helicopter operator, vendor employee or vendor contractor on the same helicopter champagne tour which introduced said beverages onto the Reservation.

(f) Violation of Section.

(1) A customer who violates any provision of this section shall be subject to a civil fine not to exceed $1,000.00, plus court costs.

(2) A helicopter vendor, vendor employee, or contractor who violates any provision of this section shall be subject to a civil fine not to exceed $5,000.00, plus court costs, and such violation shall be reported to the Grand Canyon Resort Corporation (GCRC) for its consideration of revoking the vendor's operating certificate.

(3) Violations of this Section shall be cited into the Tribal Court, and the rules of the Tribal Court shall control such actions.

(g) Agreement to Consent of Civil Jurisdiction Required. Any customer, helicopter vendor, vendor employee, or vendor contractor who seeks to transport or consume champagne or similar sparkling wine beverages pursuant to this section shall, before transporting or consuming such beverages, enter into a written agreement explicitly consenting to Hualapai Tribe civil jurisdiction over all matters arising from the applicants' activities within the exterior boundaries of the Tribe's reservation.

(h) Saving and Severability. In the event any section or provision of this section or its application to any particular activity is held to be invalid, the remaining sections and provisions of this section and the remaining applications of such sections and provisions shall continue in full force and effect.

(i) No Waiver of Sovereign Immunity. Nothing in this section shall serve to waive the Hualapai Tribe's sovereign immunity, which is hereby expressly affirmed.

(j) Amendments. This section may be amended by official action of the Tribal Council.

(k) Repeal of Prior Laws. This section, upon becoming effective, shall operate to revise any inconsistent portion of the Hualapai Tribal Code.

[FR Doc. 02-18884 Filed 7-25-02; 8:45 am]

BILLING CODE 4310-4J-P